DEPARTMENT OF TRANSPORTATION

National Highway Traffic Safety Administration

[U.S. DOT Docket No. NHTSA-2011-0162]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes an Information Collection Request (ICR) for which NHTSA intends to seek OMB approval.

DATES: Comments must be submitted on or before January 17, 2012.

ADDRESSES: Direct all written comments to the U.S. Department of Transportation Dockets, 1200 New Jersey Ave. SE., Washington, DC 20590. You may also submit comments electronically at http://www.regulations.gov. All comments should refer to the Docket No. NHTSA-2011-0162.

FOR FURTHER INFORMATION CONTACT: Jessica Cicchino, Ph.D., Contracting Officer's Technical Representative, Office of Behavioral Safety Research (NTI-131), National Highway Traffic Safety Administration, 1200 New Jersey Ave. SE., W46-491, Washington, DC 20590. Dr. Cicchino's phone number is (202) 366-2752 and her email address is jessica.cicchino@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title: Instrumented On-Road Study of Motorcycle Riders.

Type of Request: New information collection request.

OMB Clearance Number: None.

Form Number: This collection of information uses no standard forms.

Requested Expiration Date of Approval: 3 years from date of approval.

Summary of the Collection of Information: In this study, the National Highway Traffic Safety Administration (NHTSA) will be conducting on-road instrumented vehicle data collection with a total of 160 motorcycle riders to examine motorcycle riders' behaviors as they typically ride. Volunteers will be recruited to have their motorcycles outfitted for one year with instrumentation such as cameras, GPS, and accelerometers that will capture data on normal riding behavior whenever their motorcycles are ridden.

Before participating in the on-road portion of the study, participating motorcycle riders will be asked to complete intake questionnaires that will ask about their demographics, riding history, self-reported behavior, and perceptions. After completing the on-road study, participants will be asked to complete a short debriefing interview that will focus on their experiences riding with the instrumentation in the past year. If a participant is involved in a motorcycle crash during the study, he or she may be asked additional questions about the circumstances surrounding the crash. This subjective data will be combined with the objective data from the instrumentation on actual riding behavior to help NHTSA develop a better understanding of if a rider's demographic characteristics, riding history, self-reported behavior, and perceptions are linked to his or her behavior on the road.

Need and Use of Information: The National Highway Traffic Safety Administration (NHTSA) was established to reduce the mounting number of deaths, injuries, and economic losses resulting from motor vehicle crashes on the Nation's highways. As part of this statutory mandate, NHTSA is authorized to conduct research as a foundation for the development of motor vehicle standards and traffic safety programs.

Motorcycle fatalities have increased over the past decade at an alarming rate. In 2009, 4,462 motorcycle riders were killed in the US. This marks the first time the number of motorcycle fatalities has decreased after steadily increasing over 11 years; however, even with this decline, the number of motorcycle fatalities in 2009 was nearly double that from a decade earlier. Motorcycles made up 3% of the registered vehicles in the US in 2009 but motorcyclists accounted for 13% of the total traffic fatalities.

Knowledge of both how riders successfully avoid crashes and of behaviors that correlate with and contribute to crash risk is crucial to developing effective countermeasures to reduce motorcycle crashes and fatalities. Data describing actual events are difficult to collect. Riders and law enforcement officers are not always aware of what caused a crash after the fact. It is even more difficult to identify behavioral factors associated with safe riding, and the actions of riders during evasive maneuvers that did not result in a police-reportable crash. Studies using instrumented vehicles to collect data on the real-world driving of passenger car and truck drivers have provided unprecedented information describing actual events occurring for drivers as they negotiate the roadway system. The goal of this study is to collect similar data from motorcycle operators using instrumented motorcycles.

Participating riders' responses to a series of questionnaires on their demographics, riding history, self-reported behavior, and perceptions will augment the data collected from their instrumented motorcycles. Information collected from questionnaires will allow NHTSA to investigate if these rider characteristics are related to safe and unsafe on-motorcycle riding behavior. A debriefing interview will collect additional subjective information on the rider's experiences riding with the instrumentation over the prior year. In support of its mission, NHTSA will use the information from the questionnaires and interviews, in conjunction with the naturalistic data collected from the instrumented motorcycles, to decrease crashes and resulting injuries and fatalities, and provide informational support to States, localities, and law enforcement agencies that will aid them in their efforts to reduce motorcycle crashes.

Description of the Likely Respondents (Including Estimated Number, and Proposed Frequency of Response to the Collection of Information): Participation in the study will be voluntary. Each of the 160 participants in the on-road instrumented motorcycle portion of the study will be asked to complete intake questionnaires, capturing demographic characteristics, riding history, self-reported behavior, and perceptions, during his or her instrumentation session and to complete a debriefing interview as the instrumentation is being removed from his or her motorcycle one year later.

If a participant in the study is involved in a crash while riding the instrumented motorcycle, he or she may be asked to participate in one additional interview on the circumstances surrounding the crash. Based on the number of crashes that occurred per mile driven in a prior instrumented car study and the number of motorcycle injury crashes per mile ridden in 2009, NHTSA estimates that 20 motorcycle crashes may occur during this study.

Estimate of the Total Annual Reporting and Record Keeping Burden Resulting from the Collection of Information: The intake questionnaires are estimated to take 75 minutes to complete, and the debriefing interview is estimated to last 15 minutes. Intake questionnaires will be completed during the time when the respondent's motorcycle is being instrumented, and the debriefing interview will be completed while the instrumentation is being removed from the respondent's motorcycle after the one-year period of on-road data collection. This results in an estimated burden of 200 hours of burden for the intake questionnaires (160 respondents × 75 minutes), and 40 hours of burden for the debriefing interviews (160 respondents × 15 minutes).

A rider involved in a crash on his or her instrumented motorcycle during the on-road data collection period may be asked to participate in an additional interview regarding the circumstances that surrounded the crash. This interview would take approximately 60 minutes, and NHTSA estimates that 20 motorcycle crashes may occur during this study. Thus, the estimated burden for post-crash interviews is 20 hours (20 respondents × 60 minutes).

The total estimated information collection burden for this project is 260 hours over one year: 200 hours for the intake questionnaires, 40 hours for the debriefing interviews, and 20 hours for possible post-crash interviews. The respondents will not incur any record-keeping burden or record-keeping cost from the information collection.

Authority: 44 U.S.C. 3506(c)(2)(A).

Jeffrey Michael,
Associate Administrator, Research and Program Development.

[FR Doc. 2011-29361 Filed 11-15-11; 8:45 am]

BILLING CODE 4910-59-P